DEPARTMENT OF THE INTERIOR

Bureau of Land Management

[UT-912-02-1120-PG-24-1A]

Extension of Due Date for Nomination on Utah Resource Advisory Council (RAC)

AGENCY: Bureau of Land Management, Department of Interior.

ACTION: Extension of Due Date for Nomination on Utah Resource Advisory Council (RAC).

SUMMARY: The purpose of this notice is to extend the due date for nominations, due to a vacancy on Utah's Resource Advisory Council, from January 4, 2002 to February 15, 2002.

Utah residents with an interest and background in commercial recreation or oil and gas development are being sought to fill this vacancy on the 15-person Council, which has occurred due to the resignation of one of its members. The person selected will serve out the remaining balance of a 3-year term that will continue through September 2003.

FOR FURTHER INFORMATION: Anyone interested in requesting a nomination form should inquire at the Bureau of Land Management, Utah State Office, Attention: Sherry Foot, 324 South State Street, Salt Lake City, Utah, 84111; phone (801) 539-4195. Nominations must be received no later than close of business February 15, 2002.

Dated: December 17, 2001.
Sally Wisely,
State Director.

[FR Doc. 02-983 Filed 1-14-02; 8:45 am]

BILLING CODE 4310-$$-P